DEPARTMENT OF AGRICULTURE

Rural Business-Cooperative Service

7 CFR Part 4288

RIN 0570-AA75

Subpart B—Advanced Biofuel Payment Program; Correction

AGENCY: Rural Business-Cooperative Service, USDA.

ACTION: Proposed rule; correction.

SUMMARY: The Agency published a document in the Federal Register of April 16, 2010 at 75 FR 20085 proposing a payment program for producers of advanced biofuels to supporting existing advanced biofuel production and to encourage new production of advanced biofuels. As published, the proposed rule indicates that public comments must be received on or before May 17, 2010. This reflects a 30-day public comment period, when a 60-day public comment period was intended.

FOR FURTHER INFORMATION CONTACT: Requests for additional information should be directed to Diane Berger, (202) 260-1508.

SUPPLEMENTARY INFORMATION:

Correction

In the Federal Register of April 16, 2010, in FR Doc. 2010-8278, on page 20085, column 2, under DATES, the third line is corrected by changing “May 17, 2010” to “June 15, 2010.”

Dated: April 19, 2010.
Judith A. Canales,
Administrator, Rural Business-Cooperative Service.

[FR Doc. 2010-9345 Filed 4-22-10; 8:45 am]

BILLING CODE 3410-XY-P